DEPARTMENT OF DEFENSE

Office of the Secretary

Renewal of Department of Defense Federal Advisory Committees

AGENCY: DoD.

ACTION: Renewal of Federal Advisory Committee.

SUMMARY: The Department of Defense is publishing this notice to announce that it is renewing the charter for the Independent Review Panel on Military Medical Construction Standards (“the Panel”).

FOR FURTHER INFORMATION CONTACT: Jim Freeman, Advisory Committee Management Officer for the Department of Defense, 703-692-5952.

SUPPLEMENTARY INFORMATION: This committee's charter is being renewed pursuant to Section 2852(b) of Public Law 111-383, and in accordance with the Federal Advisory Committee Act (FACA) of 1972 (5 U.S.C., Appendix, as amended) and 41 CFR 102-3.50(a), established the Panel.

The Panel is a statutory Federal advisory committee that provides independent advice and recommendations to the Secretary of Defense regarding a unified construction standard for military medical centers that provides a single standard of care. The Panel shall perform the following tasks, as outlined in Section 2852(b)(1) of Public Law 111-383:

a. Review the unified military medical construction standards, established by the Secretary of Defense pursuant to Section 2852(a) of Public Law 111-382, to determine the standards consistency with industry practices and benchmarks for world class medical construction.

b. Review ongoing construction programs within the Department of Defense (DoD) to ensure medical construction standards are uniformly applied across applicable military medical centers.

c. Assess the approach of the DoD to planning and programming facility improvements with specific emphasis on (i) facility selection criteria and the proportional assessment system and (ii) facility programming responsibilities between the Assistant Secretary of Defense for Health Affairs and the Secretaries of the Military Departments.

d. Assess whether the Comprehensive Master Plan for the National Capital Region Medical (“the Master Plan”), dated April 2010, adequately fulfills statutory requirements, as required by Section 2714 of the Military Construction Authorization Act for Fiscal Year 2010 (division B of Public Law 111-84; 123 Stat. 2656), to ensure that the facilities and organizational structure described in the Master Plan result in world class military medical centers in the National Capital Region.

e. Make recommendations regarding any adjustments of the Master Plan that are needed to ensure the provision of world class military medical centers and delivery system in the National Capital Region.

The Panel, not later than 120 days after its first meeting, shall submit, to the Secretary of Defense, a written report containing an assessment of the adequacy of the Master Plan to address the above items relating to the purpose of the Panel and the recommendations of the Panel to improve the Master Plan.

Additional Reports—Each year, until the Panel terminates, it shall submit, no later than February 1, an annual report to the Secretary of Defense on the Panel's findings and recommendations to address any identified deficiencies.

The Panel or its members, with the Department's approval, may visit military health treatment centers and military headquarters in connection with the official duties of the Panel. Such visits shall be undertaken through the Under Secretary of Defense for Personnel and Readiness (USD(P&R)) and in coordination with the Secretaries of the Military Departments and the Chiefs of the Military Services, as appropriate. Visits to any U.S. military installations or headquarters under the operational control of a U.S. Combatant Commander will be done in consultation with the Director of the Joint Staff and the appropriate Combatant Commander.

The Panel is not established to provide advice on individual DoD procurements. No matter shall be assigned to the Panel for its consideration that would require any member of the Panel to participate personally and substantially in the conduct of any specific procurement or place him or her in the positions of acting as a contracting or procurement official.

The Panel reports to the Secretary of Defense. The USD(P&R), pursuant to DoD policy, may act upon the Panel's advice and recommendations.

The Panel shall be comprised of no more than 14 members, 10 of which shall be appointed by the Secretary of Defense or the Deputy Secretary of Defense. Those members shall include medical facility design experts; military healthcare professionals; representatives of premier health care centers in the United States; and former retired senior military officers with joint operational and budgetary experience.

The Chairmen and ranking members of the Committees on the Armed Services of the Senate and the House of Representatives may each designate one member of the Panel, for a total of four members. Individuals designated by the Chairman and ranking members of the Committees on the Armed Services of the Senate and the House of Representatives shall be appointed by the Secretary of Defense.

Panel members may be appointed by the Secretary of Defense for the duration of the Panel, with annual renewals of appointments. Members of the Panel, who are not full-time or permanent part-time Federal officers or employees, shall be appointed to serve as experts or consultants pursuant to 5 U.S.C. 3109 to serve as special government employee (SGE) members. Those individuals who are full-time or permanent part-time Federal officers or employees shall be appointed pursuant to 41 CFR 102-3.130(a) to serve as regular government employee (RGE) members. Each member of the Panel is appointed to provide advice on behalf of the Government on the basis of his or her best judgment without representing any particular point of view and in a manner that is free from conflict of interest. With the exception of reimbursement of official Panel-related travel and per diem, members of the Panel shall serve without compensation.

The Secretary of Defense may appoint additional experts and consultants, with relevant expertise, to assist the Panel on an ad-hoc basis as advisers. These non-member experts and consultants, who do not count toward the Panel's total membership, shall be appointed to serve as SGE members under the authority of 5 U.S.C. 3109; however, these experts and consultants have no voting rights on the Panel and are prohibited from engaging in any deliberations by members of the Panel. These advisers shall be reimbursed for necessary travel expenses. The Department, when necessary and consistent with the Panel's mission and DoD policies and procedures, may establish subcommittees, task forces, or working groups to support the Panel. Establishment of subcommittees will be based upon a written determination, to include terms of reference, by the Secretary of Defense, the Deputy Secretary of Defense, or USD(P&R), as the Panel's sponsor.

Such subcommittees shall not work independently of the Panel and shall report all of their recommendations and advice solely to the Panel for full and open deliberation and discussion. Subcommittees, task forces, or working groups have no authority to make decisions and recommendations, verbally or in writing, on behalf of the Panel, directly to the DoD or any Federal officers or employees.

The Secretary of Defense or the Deputy Secretary of Defense will appoint subcommittee members to a term of service of one-to-four years, with annual renewals, even if the member in question is already a member of the Panel.

Subcommittee members, if not full-time or permanent part-time Federal employees, will be appointed as experts or consultants pursuant to 5 U.S.C. 3109, to serve as SGE members. Those individuals who are full-time or permanent part-time Federal officers or employees shall be appointed, pursuant to 41 CFR 102-3.130(a), to serve as RGE members. With the exception of reimbursement of official Panel-related travel and per diem, subcommittee members shall serve without compensation.

All subcommittees operate under the provisions of FACA, the Sunshine Act, governing Federal statutes and regulations, and governing DoD policies and procedures.

The Panel's Designated Federal Officer (DFO) shall be a full-time or permanent part-time DoD employee appointed in accordance with governing DoD policies and procedures.

The Panel's DFO is required to attendance at all meetings of the Panel and its subcommittees for the entire duration of each and every meeting. However, in the absence of the Panel's DFO, a properly approved Alternate DFO, duly appointed to the Panel according to established DoD policies and procedures, shall attend the entire duration of all meetings of the Panel and its subcommittees.

The DFO, or the Alternate DFO, shall call all meetings of the Panel and its subcommittees; prepare and approve all meeting agendas; and adjourn any meeting when the DFO, or the Alternate DFO, determines adjournment to be in the public interest or required by governing regulations or DoD policies and procedures.

Pursuant to 41 CFR 102-3.105(j) and 102-3.140, the public or interested organizations may submit written statements to Independent Review Panel on Military Medical Construction Standards membership about the Panel's mission and functions. Written statements may be submitted at any time or in response to the stated agenda of planned meeting of the Independent Review Panel on Military Medical Construction Standards.

All written statements shall be submitted to the DFO for the Independent Review Panel on Military Medical Construction Standards, and this individual will ensure that the written statements are provided to the membership for their consideration. Contact information for the Independent Review Panel on Military Medical Construction Standards DFO can be obtained from the GSA's FACA Database— http://www.facadatabase.gov/.

The DFO, pursuant to 41 CFR 102-3.150, will announce planned meetings of the Independent Review Panel on Military Medical Construction Standards. The DFO, at that time, may provide additional guidance on the submission of written statements that are in response to the stated agenda for the planned meeting in question.

Dated: December 2, 2014.
Aaron Siegel,
Alternate OSD Federal Register Liaison Officer, Department of Defense.

[FR Doc. 2014-28639 Filed 12-5-14; 8:45 am]

BILLING CODE 5001-06-P